DEPARTMENT OF JUSTICE

Antitrust Division

Notice Pursuant to the National Cooperative Research and Production Act of 1993—Wild Bird Feeding Industry

Notice is hereby given that, on September 23, 2004, pursuant to section 6(a) of the National Cooperative Research and Production Act of 1993, 15 U.S.C. 4301 et seq. (“the Act”), Wild Bird Feeding Industry (“WBFI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Wild Bird Feeding Industry, Sioux Falls, SD. The nature and scope of WBFI's standards development activities are: Investigating and developing standards of identity and quality for products sold for wild birds. These products include feeders, houses, baths and accessories, and seed and other food.

Dorothy B. Fountain,
Deputy Director of Operations, Antitrust Division.

[FR Doc. 04-25084 Filed 11-9-04; 8:45 am]

BILLING CODE 4410-11-M